DEPARTMENT OF STATE

[Public Notice: 11300]

Notice of Public Meeting To Prepare for International Maritime Organization Session

The Department of State will conduct a public meeting at 10:00 a.m. on Wednesday, February 10, 2021, by way of teleconference. Members of the public may participate up to the capacity of the teleconference phone line, which will handle 500 participants. To access the teleconference line, participants should call (202) 475-4000 and use Participant Code: 415 533 25#. The primary purpose of the meeting is to prepare for the seventh session of the International Maritime Organization's (IMO) Sub-Committee on Human Element, Training and Watchkeeping (HTW) to be held remotely, February 15-19, 2021.

The agenda items to be considered include:

—Adoption of the agenda

—Decisions of other IMO bodies

—Role of the human element

—Implementation of the STCW Convention

—Comprehensive review of the 1995 STCW-F Convention

—Development of amendments to the STCW Convention and Code for the use of electronic certificates and documents of seafarers

—Development of measures to ensure quality of onboard training as part of the mandatory seagoing service required by the STCW Convention

—Development of measures to facilitate mandatory seagoing service required under the STCW Convention

—Biennial status report and provisional agenda for HTW 8

—Election of Chair and Vice-Chair for 2022

—Any other business

—Report to the Maritime Safety Committee

Please note: The Sub-committee may, on short notice, adjust the HTW 7 agenda to accommodate the constraints associated with the virtual meeting format. Although no changes to the agenda are anticipated, if any are necessary, they will be provided to those who RSVP.

Those who plan to participate may contact the meeting coordinator, Mr. Kenneth Doyle, by email at Kenneth.j.Doyle@uscg.mil, by phone at (202) 372-1046, or in writing at 2703 Martin Luther King Jr. Ave. SE, Stop 7509, Washington DC 20593-7509.

Additional information regarding this and other IMO public meetings may be found at: https://www.dco.uscg.mil/IMO.

Jeremy M. Greenwood,
Coast Guard Liaison Officer, Office of Ocean and Polar Affairs, Department of State.

[FR Doc. 2021-00657 Filed 1-13-21; 8:45 am]

BILLING CODE 4710-09-P